DEPARTMENT OF ENERGY

Federal Energy Regulatory Commission

Notice of Non-Project Use of Project Lands and Waters and Soliciting Comments, Motions To Intervene, and Protests

August 27, 2001.

Take notice that the following application has been filed with the Commission and is available for public inspection:

a. Application Type: Non-Project Use of Project Lands and Waters.

b. Project No: 2503-064.

c. Date Filed: August 15, 2001.

d. Applicant: Duke Energy Corporation.

e. Name of Project: Keowee-Toxaway Hydroelectric Project.

f. Location: On Lake Keowee at the Keowee Falls RV Park, Oconee County, South Carolina. The project does not utilize federal or tribal lands.

g. Filed Pursuant to: Federal Power Act, 16 U.S.C. 791(a)-825(r).

h. Applicant Contact: Mr. Joe Hall, Duke Energy Company, P.O. Box 1006, Charlotte, NC 28201-1006. Phone: (704) 382-8576

i. FERC Contact: Any questions on this notice should be addressed to Shana High at (202) 208-2266.

j. Deadline for filing comments and/or motions: September 27, 2001.

All documents (original and eight copies) should be filed with David P. Boergers, Secretary, Federal Energy Regulatory Commission, 888 First Street, NE., Washington DC 20426. Comments, protests and interventions may be filed electronically via the Internet in lieu of paper. See, 18 CFR 385.2001(a)(1)(iii) and the instructions on the Commission's web site under the “e-Filing” link.

Please include the project number (2503-064) on any comments or motions filed.

k. Description of Proposal: Duke Energy Corporation proposes to grant a lease for 0.64 acres of project property to Keowee Falls RV Park for a proposed commercial residential facility having three cluster docks with six boat docking locations on each dock for a total of 18 boat docking slips and one concrete boat ramp to provide access to the reservoir for the individuals leasing campsites at the Keowee Falls RV Park. The cluster docks will consist of steel angle iron with plastic floatation devices under the metal. The decking of the docks will be pressure treated face boards. The boat ramp will consist of six-inch thick concrete slabs with steel bars for strength and durability. The overall measurement of the ramp will be 12 feet by 48 feet and will be composed of eight sections, each six feet in length. No dredging will be required for the construction of these facilities.

l. Locations of the Application: Copies of this filing are on file with the Commission and are available for public inspection. This filing may also be viewed on the web at http://www.ferc.gov using the “RIMS” link, select “Docket #” and follow the instructions (call 202-208-2222 for assistance).

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comment: Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-21981 Filed 8-30-01; 8:45 am]

BILLING CODE 6717-01-P